ENVIRONMENTAL PROTECTION AGENCY

[EPA-HQ-SFUND-2005-0007, FRL-8013-7]

Agency Information Collection Activities; Submission to OMB for Review and Approval; Comment Request; EPA Worker Protection Standards for Hazardous Waste Operations and Emergency Response (Renewal), EPA ICR Number 1426.07, OMB Control Number 2050-0105

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on 12/31/2005. Under OMB regulations, the Agency may continue to conduct or sponsor the collection of information while this submission is pending at OMB. This ICR describes the nature of the information collection and its estimated burden and cost.

DATES: Additional comments may be submitted on or before January 23, 2006.

ADDRESSES: Submit your comments, referencing docket ID number EPA-HQ-SFUND-2005-0007, to (1) EPA online using http://www.regulations.gov (our preferred method), by e-mail to superfund.docket@epa.gov, or by mail to: EPA Docket Center, Environmental Protection Agency, Office of Solid Waste and Emergency Response, 5305T, 1200 Pennsylvania Ave., NW., Washington, DC 20460, and (2) OMB at: Office of Information and Regulation Affairs, Office of Management and Budget (OMB), Attention: Desk Officer for EPA, 725 17th Street, NW., Washington, DC 20503.

FOR FURTHER INFORMATION CONTACT: Sella M. Burchette, U.S. EPA, Environmental Response Team, MS 101, Building 18, Edison, NJ 08837; telephone number: 732-321-6726; fax number: 732-321-6724; e-mail address: burchette.sella@epa.gov.

SUPPLEMENTARY INFORMATION: EPA has submitted the following ICR to OMB for review and approval according to the procedures prescribed in 5 CFR 1320.12. On October 21, 2005 (70 FR 61284), EPA sought comments on this ICR pursuant to 5 CFR 1320.8(d). No comments were received.

EPA has established a public docket for this ICR under Docket ID number EPA-HQ-SFUND-2005-0007, which is available for public viewing at the Office of Solid Waste and Emergency Response Superfund Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Solid Waste and Emergency Response Superfund Docket is (202) 566-0276. An electronic version of the public docket is available at http://www.regulations.gov. Use http://www.regulations.gov to obtain a copy of the draft collection of information, submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in http://www.regulations.gov as EPA receives them and without change, unless the comment contains copyrighted material, confidential business information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in http://www.regulations.gov. For further information about the electronic docket go to http://www.regulations.gov.

Title: EPA Worker Protection Standards for Hazardous Waste Operation and Emergency Response (Renewal).

Abstract: Section 126(f) of the Superfund Amendments and Reauthorization Act of 1986 (SARA) requires EPA to set worker protection standards for State and local employees engaged in hazardous waste operations and emergency response in the 27 States that do not have Occupational Safety and Health Administration approved State plans. The EPA coverage, required to be identical to the OSHA standards, extends to three categories of employees: those engaged in clean-ups at uncontrolled hazardous waste sites, including corrective actions at Treatment, Storage and Disposal (TSD) facilities regulated under the Resource Conservation and Recovery Act (RCRA); employees working at routine hazardous waste operations at RCRA TSD facilities, and employees involved in emergency response operations without regard to location. This ICR renews existing mandatory record keeping collection of ongoing activities including monitoring of any potential employee exposure at uncontrolled hazardous waste sites, maintaining records of employee training, refresher training, medical exams and reviewing emergency response plans.

An agency may not conduct or sponsor, and a person is not required to respond to, a collection of information unless it displays a currently valid OMB control number. The OMB control numbers for EPA's regulations in 40 CFR are listed in 40 CFR part 9 and are identified on the form and/or instrument, if applicable.

Burden Statement: The annual recordkeeping burden for this collection will remain unchanged from previous estimates and is estimated to average 10.5 hours per site or event. Burden means to total time, effort, and financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local governments in the 27 States and 2 territories that do not have OSHA-approved plans under section 18(b) of the OSH Act. The population affected by the EPA worker protection standards includes State and local governments with employees: (1) Engaged in routine hazardous waste operations at TSD facilities regulated under RCRA; (2) engaged in clean-ups at uncontrolled hazardous waste sites, including corrective actions at RCRA TSD facilities; and (3) engaged in emergency response without regard to location.

Estimated number of respondents: Approximately 100 RCRA TSD facilities or uncontrolled hazardous waste sites and 23,900 State and local police departments, fire departments or hazardous materials teams.

Frequency of Response: Continuous maintenance of records.

Estimated Total Annual Hour Burden: 255,427.

Estimated Total Annual Cost: $3,529,000, which includes $0 annual capital/startup costs, $0 annual O&M costs and $3,529,000 annual labor costs.

Changes in the Estimates: There are no changes in the estimates currently identified in the OMB Inventory of Approved ICR Burdens.

Dated: December 14, 2005.
Oscar Morales,
Director, Collection Strategies Division.

[FR Doc. E5-7694 Filed 12-21-05; 8:45 am]

BILLING CODE 6560-50-P